DEPARTMENT OF HOUSING AND URBAN DEVELOPMENT

[Docket Number: FR-6146-N-05]

Privacy Act of 1974; Matching Program

AGENCY: Office of Administration, HUD.

ACTION: Notice of a new matching program.

SUMMARY: Pursuant to the Privacy Act of 1974, as amended by the Computer Matching and Privacy Protection Act (CMPPA) of 1988, HUD is providing notice of its intent to execute a new computer matching agreement with the U.S. Small Business Administration (SBA). The matching agreement covers the exchange of data obtained by SBA pertaining to delinquent debt. The purpose of the match is to update the Credit Alert Verification Reporting System (CAIVRS), which is maintained by HUD.

DATES: The period of this matching program is estimated to cover the 18-month period from June 15, 2019 through December 15, 2020. However, the computer matching agreement (CMA) will become applicable at the later of the following two dates: June 15, 2019 or 30 days after the publication of this notice, unless comments have been received from interested members of the public requiring modification and republication of the notice.

ADDRESSES: Interested persons are invited to submit comments regarding this notice at www.regulations.gov or to the Rules Docket Clerk, Office of General Counsel, Department of Housing and Urban Development, 451 Seventh Street SW, Room 10110, Washington, DC 20410. Communications should refer to the above docket number. A copy of each communication submitted will be available for public inspection and copying between 8:00 a.m. and 5:00 p.m. weekdays at the above address. Persons with hearing or speech impairments may access this number through TTY by calling the toll-free Federal Relay service at (800) 877-8339.

FOR FURTHER INFORMATION CONTACT: Contact the “Recipient/Source Agency” John Bravacos, Departmental Privacy Officer, Department of Housing and Urban Development, 451 Seventh Street SW, Room 10139, Washington, DC 20410, telephone number (202) 708-3054.

SUPPLEMENTARY INFORMATION: This notice supersedes a similar notice published in the Federal Register on January 5, 2016, at 81 FR 248. The Computer Matching program seeks to set forth the terms and conditions governing disclosures of records, information, or data (collectively referred to herein as “data”) made by SBA to HUD. This data is obtained by SBA and pertains to delinquent debt that individuals owe to SBA. The purpose of its transmittal is to update the Credit Alert Verification Reporting System (CAIVRS), which is a computer information system maintained by HUD. The data match will allow for the prescreening of applicants for Federal direct loans or federally guaranteed loans, for the purpose of determining the applicant's credit worthiness, by ascertaining whether the applicant is delinquent or in default on a loan owed directly to or guaranteed by the Federal Government. The terms and conditions of this Agreement ensure that SBA makes such disclosures of data, and that HUD uses such disclosed data, in accordance with the requirements of the Privacy Act of 1974, as amended by the Computer Matching and Privacy Protection Act (CMPPA) of 1988, 5 U.S.C. 552a.

Participating Agencies: The U.S. Small Business Administration is the source agency and the Department of Housing and Urban Development is the recipient agency.

Authority for Conducting the Matching Program: HUD and SBA are authorized to participate in the matching program under Title 31, United States Code, Section 3720B. Office of Management and Budget (OMB) Circulars A-129 (Managing Federal Credit Programs) and A-70 (Policies and Guidelines for Federal Credit Programs); the Budget and Accounting Acts of 1921 and 1950, as amended; the Debt Collection Act of 1982, as amended; the Deficit Reduction Act of 1984, as amended, and the Debt Collection Improvement Act of 1996, as amended.

Purpose: The purpose of CAIVRS is to give participating federal agencies and authorized private lenders acting on the government's behalf, access to a database of delinquent federal debtors for the purpose of pre-screening the credit worthiness of applicants for direct loans and federally guaranteed loans. The use of CAIVRS will allow HUD to better monitor its credit programs and to reduce the credit extended to individuals with outstanding delinquencies on debts owed to HUD and other Federal agencies. Thus, both risk reduction and debt recovery are primary objectives of CAIVRS and this matching program.

Categories of Individuals: The matching program involves records of individuals applying for direct loans and federally guaranteed loans.

Categories of Records: The following is the category of record in this matching agreement:

• Borrower ID Number—SSN, Employer Identification Number (EIN) or Taxpayer Identification Number (TIN) of the individual debtor on a delinquent federal direct loan or federally-guaranteed loan.

Systems of Records: The HUD records used in the information comparison are retrieved from, and the results of the information comparison are maintained within, the HUD system of records from the following systems: HUD/SFH-01—Single Family Default Monitoring System, SFDMS, F42D (72 FR 65350, November 20, 2007; routine uses updated 80 FR 81837, December 31, 2015); HSNG.SF/HWAA.02—Single Family Insurance System—Claims Subsystem, CLAIMS, A43C (79 FR 10825 February 26, 2014); HUD/HS-55—Debt Collection and Asset Management System (DCAMS) (72 FR 63919 November 13, 2007), which consists of two sister systems identified as DCAMS—Title I, DCAMS-T1, F71 and DCAMS—Generic Debt, DCAMS-GD, F71A; and CFO/FY.03—Financial Data Mart, FDM A57R (79 FR 16805, March 26, 2014).

SBA's records come from: (1) Disaster Loan Case File (SBA 20) (74 FR 14890, April 1, 2009); and (2) Loan System (SBA 21) (as amended 77 FR 61467, October 9, 2012). SBA will provide HUD with delinquent debtor files contained in the Systems of Records described above for obligors that have received a 60-day due process notification letter prior to referral to the Department of Treasury for offset and cross-servicing.

Dated: May 16, 2019.
John Bravacos,
Senior Agency Official for Privacy.

[FR Doc. 2019-10930 Filed 5-23-19; 8:45 am]

BILLING CODE 4210-67-P